DEPARTMENT OF DEFENSE

Office of the Secretary

[Docket ID: DOD-2020-OS-0066]

Submission for OMB Review; Comment Request

AGENCY: Office of the Under Secretary of Defense for Personnel and Readiness, Office of the Secretary, DoD.

ACTION: 30-Day information collection notice.

SUMMARY: The Department of Defense has submitted to OMB for clearance the following proposal for collection of information under the provisions of the Paperwork Reduction Act.

DATES: Consideration will be given to all comments received by November 23, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Election Administration and Voting Survey (EAVS) Section B Data Standard (ESB Data Standard); ESB Data Standard; 0704-FVAP.

Type of Request: New collection.

Number of Respondents: 827.

Responses per Respondent: 1.

Annual Responses: 827.

Average Burden per Response: 5 hours.

Annual Burden Hours: 4,135 hours.

Needs and Uses: To help better assist UOCAVA voters, FVAP and the Council of State Governments worked to refine a transformative new data schema called the Election Administration and Voting Survey (EAVS) Section B (ESB) Data Standard. The ESB Data Standard builds on other data standardization efforts and allows FVAP to analyze the three key parts of the voting process: (1) Ballot request, (2) ballot transmission, and (3) ballot return. With this transactional-level data, FVAP will be able to analyze the voters experience from start to finish, identifying drivers for success, and uncovering any areas within the UOCAVA voting process which could be improved upon.

Affected Public: State, local, and tribal governments.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: October 19, 2020.
Morgan E. Park,
Alternate OSD Federal Register Liaison Officer, Department of Defense.

[FR Doc. 2020-23410 Filed 10-21-20; 8:45 am]

BILLING CODE 5001-06-P